DEPARTMENT OF JUSTICE

Notice of Lodging of Proposed Consent Decree Under the Clean Water Act

On August 19, 2021, the U.S. Department of Justice (DOJ) lodged a proposed Amended Consent Decree with the United States District Court for the Northern District of Indiana in United States of America and State of Indiana v. City of South Bend, Indiana, No. 3:11CV505. The proposed Amended Consent Decree supersedes and replaces the original Consent Decree that the Court entered on May 2, 2012.

The 2012 Consent Decree resolved claims for civil penalties, and injunctive relief in the form of a Long Term Control Plan for violations of the Clean Water Act and related State law claims regarding the City of South Bend's operation of its municipal wastewater and sewer system. In the proposed Amended Consent Decree, South Bend agrees to construct and operate a sewage conveyance and treatment system that, once fully implemented by 2038, would significantly increase the level of control of pollutant discharges required under the 2012 Consent Decree by, among other things, treating sewage and wastewater discharges to meet Indiana's water quality standard for E. coli.

The publication of this notice opens a period for public comment on the proposed Amended Consent Decree. Comments should be addressed to Assistant Attorney General, Environment and Natural Resources Division, and should refer to United States of America and State of Indiana v. City of South Bend, Indiana, D.J. Ref. No. 90-5-1-1-08182. All comments must be submitted no later than thirty (30) days after the publication date of this notice. Comments may be submitted by email or mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: http://www.justice.gov/enrd/consent-decrees.

We will provide a paper copy of the proposed Consent Decree upon written request and payment of the reproduction costs. Please mail your request and payment to: Consent Decree Library, U.S. DOJ—ENRD, P.O. Box 7611, Washington, DC 20044-7611.

Please enclose a check or money order for $23.25 (25 cents per page reproduction cost), payable to the United States Treasury.

Karen S. Dworkin,
Deputy Section Chief, Environmental Enforcement Section, Environment and Natural Resources Division.

[FR Doc. 2021-18415 Filed 8-25-21; 8:45 am]

BILLING CODE 4410-15-P